DEPARTMENT OF ENERGY

Federal Energy Regulatory Commission

[Docket No. EL01-14-000]

City of Vernon, California v. California Independent System Operator Corporation; Notice of Complaint

November 14, 2000.

Take notice that on November 9, 2000, the City of Vernon, California (Vernon) tendered for filing a Complaint Requesting Fast Track processing against the California Independent System Operator Corporation (ISO). The Vernon Complaint asserts that the ISO has unreasonably delayed approval of Vernon's application to the ISO to become a Participating Transmission Owner (PTO) in the ISO transmission system, and that the ISO has thereby violated its FERC Electric Tariff and the Federal Power Act. Vernon requests that the Commission order the ISO to promptly take action to approve and implement Vernon PTO status as of January 1, 2001, or, in the alternative, for the Commission itself to take actions necessary to implement Vernon PTO status effective as of January 1, 2001.

Any person desiring to be heard or to protest this filing should file a motion to intervene or protest with the Federal Energy Regulatory Commission, 888 First Street, NE., Washington, DC 20426, in accordance with Rules 211 and 214 of the Commission's Rules of Practice and Procedure (18 CFR 385.211 and 385.214). All such motions or protests must be filed on or before November 29, 2000. Protests will be considered by the Commission in determining the appropriate action to be taken, but will not serve to make protestants parties to the proceeding. Any person wishing to become a party must file a motion to intervene. Copies of this filing are on file with the Commission and are available for public inspection in the Public Reference Room. This filing may also be viewed on the Internet at http://www.ferc.fed.us/online/rims.htm (call 202-208-2222 for assistance). Answers to the complaint shall also be due on or before November 29, 2000. Comments and protests may be filed electronically via the internet in lieu of paper. See, 18 CFR 385.2001(a)(1)(iii) and the instructions on the Commission's web site at http://www.ferc.fed.us/efi/doorbell.htm.

Linwood A. Watson, Jr.,
Acting Secretary.

[FR Doc. 00-29579 Filed 11-17-00; 8:45 am]

BILLING CODE 6717-01-M